DEPARTMENT OF AGRICULTURE

Food and Nutrition Service

Agency Information Collection Activities: Proposed Collection; Comment Request—Child Nutrition Database

AGENCY: Food and Nutrition Service (FNS), USDA.

ACTION: Notice.

SUMMARY: In accordance with the Paperwork Reduction Act of 1995, this notice invites the general public and other public agencies to comment on this proposed information collection. This is a revision of a currently approved collection. This collection is the voluntary submission of data including nutrient data from the food industry to update and expand the Child Nutrition Database in support of the Healthy Hunger Free Kids Act.

DATES: Written comments on this notice must be received by June 12, 2017 to be assured of consideration.

ADDRESSES: Comments may be sent to: Natalie Partridge, Nutritionist, Nutrition Education, Training and Technical Assistance Division, Child Nutrition Programs, Room 630, Food and Nutrition Service, United States Department of Agriculture, 3101 Park Center Drive, Alexandria, VA 22302. Comments may also be submitted via email to the attention of Natalie Partridge at natalie.partridge@fns.usda.gov with “CN Database Comments” in the subject line. Comments will also be accepted through the Federal eRulemaking Portal. Go to http://www.regulations.gov and follow the online instructions for submitting comments electronically. All responses to this notice will be summarized and included in the request for Office of Management and Budget approval. All comments will be a matter of public record.

FOR FURTHER INFORMATION CONTACT: Requests for additional information or copies of the information collection instrument and instruction should be directed to Natalie Partridge at (703) 457-6803.

SUPPLEMENTARY INFORMATION: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Title: Child Nutrition Database.

Form Number: FNS-710.

OMB Number: 0584-0494.

Expiration Date: August 31, 2017.

Type of Request: Revision of currently approved collection.

Abstract: The development of the Child Nutrition (CN) Database is regulated by the United States Department of Agriculture (USDA), Food and Nutrition Service. This database is designed to be incorporated in USDA-approved nutrient analysis software and provide an accurate source of nutrient data. The software allows schools participating in the National School Lunch Program (NSLP) and School Breakfast Program (SBP) to analyze meals and measure the compliance of the menus to established nutrition goals and standards specified in 7 CFR 210.10 for the NSLP and 7 CFR 220.8 for the SBP. The information collection for the CN Database is conducted using an outside contractor. The CN Database is updated annually with brand name or manufactured foods commonly used in school food service. To update and expand the CN Database, collection of this information is accomplished by form FNS-710, CN Database Qualification Report. The Food and Nutrition Service's contractor collects this data from the food industry through the paper form, an online Web Tool, or a spreadsheet (for bulk data submissions). The online Web tool is available at: https://healthymeals.fns.usda.gov/online-web-tool-submitting-nutrient-data-0. The paper form and online Web Tool were revised to add two nutrients, vitamin D and potassium, and to remove an obsolete ingredient list. The form was also edited to update terminology and instructions. The new spreadsheet version was developed to facilitate submission of bulk data. The burden should not be affected by these changes. The submission of data from the food industry will be strictly voluntary, and based on analytical, calculated, or nutrition facts label sources.

Affected Public: Business or other for-profit (Manufacturers of food produced for schools.)

Form: FNS-710.

Estimated Number of Respondents: 32.

Estimated Number of Responses per Respondent: 35.

Estimated Total Annual Responses: 1,120.

Estimated Time per Response: 2.0 Hours.

Estimated Total Annual Burden on Respondents: 2,240 Hours.

Dated: March 30, 2017.
Jessica Shahin,
Acting Administrator, Food and Nutrition Service.

[FR Doc. 2017-07412 Filed 4-11-17; 8:45 am]

BILLING CODE 3410-30-P